DEPARTMENT OF LABOR

Employment and Training Administration

[TA-W-37,019]

Thomas Energy Services, MWD Division, a.k.a. Pathfinder Energy Services, Inc., New Iberia, LA; Amended Certification Regarding Eligibility To Apply for Worker Adjustment Assistance

In accordance with section 223 of the Trade Act of 1974 (19 U.S.C. 2273) the Department of Labor issued a Certification of Eligibility to Apply for Worker Adjustment Assistance on December 3, 1999, applicable to workers of Thomas MWD, a/k/a Pathfinder Energy Services, Inc., New Iberia, Louisiana. The notice was published in the Federal Register on December 28, 1999 (64 FR 72692).

At the request of the State agency, the Department reviewed the certification for workers of the subject firm. The workers provided engineering, logging and drilling services related to the exploration and production of crude oil and natural gas. New information received from the company shows that in March, 1999, Thomas MWD merged with PathFinder Energy Services and became known as Thomas Energy Services, MWD Division, a/k/a PathFinder Energy Services. Information also shows that workers separated from employment at Thomas MWD, a/k/a Pathfinder Energy Services, Inc. had their wages reported under a separate unemployment insurance (UI) tax account for Thomas Energy Services, MWD Division, a/k/a Pathfinder Energy Services, Inc.

Accordingly, the Department is amending the certification to properly reflect this matter.

The amended notice applicable to TA-W-37,019 is hereby issued as follows:

All workers of Thomas Energy Services, MWD Division, a/k/a Pathfinder Energy Services, Inc., New Iberia, Louisiana who became totally or partially separated from employment on or after October 22, 1998 through December 3, 2001 are eligible to apply for adjustment assistance under Section 223 of the Trade Act of 1974.

Signed at Washington, DC this 10th day of March, 2000.
Grant D. Beale,
Program Manager, Division of Trade Adjustment Assistance.

[FR Doc. 00-7486 Filed 3-24-00; 8:45 am]

BILLING CODE 4510-30-M